DEPARTMENT OF COMMERCE

National Oceanic and Atmospheric Administration

RIN 0648-XA041

Endangered and Threatened Species; Recovery Plan for the Sperm Whale

AGENCY: National Marine Fisheries Service, National Oceanic and Atmospheric Administration, Commerce.

ACTION: Notice of Availability; recovery plan for the sperm whale.

SUMMARY: The National Marine Fisheries Service (NMFS) announces the adoption of an Endangered Species Act (ESA) Recovery Plan for the Sperm whale (Physeter macrocephalus). The Recovery Plan contains revisions and additions in consideration of public comments received on the proposed draft Recovery Plan for the sperm whale.

ADDRESSES: Additional information about the Recovery Plan may be obtained by writing to Monica DeAngelis, National Marine Fisheries Service, Southwest Regional Office, Protected Resources Division, 501 W. Ocean Blvd., Suite 4200, Long Beach, CA 90802 or send an electronic message to Monica.DeAngelis@noaa.gov.

Electronic copies of the Recovery Plan and a summary of NMFS' response to public comments on the Recovery Plan are available online at the NMFS Office of Protected Resources Web site: http://www.nmfs.noaa.gov/pr/species/mammals/cetaceans/spermwhale.htm.

FOR FURTHER INFORMATION CONTACT: Monica DeAngelis (562) 980-3232, e-mail Monica.DeAngelis@noaa.gov.

SUPPLEMENTARY INFORMATION:

Background

Recovery plans describe actions considered necessary for the conservation and recovery of species listed under the Endangered Species Act of 1973 (ESA), as amended (16 U.S.C. 1531 et seq.). The ESA requires that recovery plans incorporate (1) Objective, measurable criteria that, when met, would result in a determination that the species is no longer threatened or endangered; (2) site-specific management actions necessary to achieve the plan's goals; and (3) estimates of the time required and costs to implement recovery actions. The ESA requires the development of recovery plans for listed species unless such a plan would not promote the recovery of a particular species. NMFS' goal is to restore endangered sperm whale (Physeter macrocephalus) populations to the point where they are again secure, self-sustaining members of their ecosystems and no longer need the protections of the ESA.

The sperm whale was listed as an endangered species under the ESA on December 2, 1970 (35 FR 18319). Sperm whales have a global distribution and can be found in the Atlantic, Pacific, and Indian Oceans. They were subject to commercial whaling for more than two and a half centuries and in all parts of the world. The long history of whaling and the complex social structure and reproductive behavior of sperm whales have confounded assessments of population status and structure. Historical catch records are sparse or nonexistent in some areas of the world and over long periods of time, and gross under-reporting or mis-reporting of modern catch data has taken place on a large scale. The wide-ranging, generally offshore distribution of sperm whales and their long submergence times, complicate efforts to estimate abundance. Although the aggregate abundance worldwide is probably at least several hundred thousand individuals, the extent of depletion and degree of recovery of populations are uncertain. Currently, the population structure of sperm whales has not been adequately defined. Most models have assigned arbitrary boundaries, often based on patterns of historic whaling activity and catch reports, rather than on biological evidence. Populations are often divided on an ocean basin level. Therefore, the Recovery Plan is organized, for convenience, by ocean basin and discussed in three sections: Those sperm whales in the Atlantic Ocean/Mediterranean Sea, including the Caribbean Sea and Gulf of Mexico, those in the Pacific Ocean and its adjoining seas and gulfs, and those in the Indian Ocean. There is a need for an improved understanding of the genetic differences among and between populations, in order to determine distinct population units. Although there is new information, existing knowledge of population structure for this nearly continually distributed species remains poor. New information is currently insufficient to identify units that are both discrete and significant to the survival of the species.

NMFS released the draft Recovery Plan and requested comments from the public on July 6, 2006 (71 FR 38385). A summary of comments and NMFS responses to comments are available electronically (see ADDRESSES). Concurrent with the public comment period, NMFS requested comments from three independent peer-reviewers. The peer-review comment period was extended for another 60 days after the public comment period was closed to allow peer-reviewers more time.

The final Recovery Plan contains: (1) A comprehensive review of sperm whale ecology, (2) a threats assessment, (3) biological and recovery criteria for downlisting and delisting, (4) actions necessary for the recovery of the species, (5) an implementation schedule, and (6) estimates of time and cost to recovery.

The Recovery Plan presents a recovery strategy to address the potential threats based on the best available science and presents guidance for use by agencies and interested parties to assist in the recovery of the sperm whale. The threats assessment ranked threats as either having a/an Unknown, Unknown but Potentially Low, Low, Medium, or High relative impact to the recovery of sperm whales. Ranking assignments were determined by an expert panel with contributions from reviewers. Following are the threat rankings relative to the recovery of the sperm whale:

• Fishery interactions in the Indian Ocean, anthropogenic noise from ship noise, oil and gas exploration, military sonar and explosives, contaminants and pollutants, and loss of prey base due to climate and ecosystem change were ranked as having an unknown impact.

• Ship strikes was ranked as having an unknown but potentially low impact.

• Fishery interactions in the Atlantic Ocean/Mediterranean Sea and Pacific Ocean disturbance from whale watching and other vessels, disease, injury from marine debris, disturbance due to research, predation and natural mortality, direct harvest, competition for resources, and cable laying were ranked as having a low impact; and

No threats were identified as having a medium or high impact relative to the recovery of the fin whale.

The Recovery Plan identifies nine measures that need to be taken to ensure the recovery of sperm whales in the Atlantic Ocean/Mediterranean Sea, Pacific Ocean, and Indian Ocean. The key features of the proposed recovery program for the sperm whale are to: (1) Coordinate State, Federal, and international actions to implement recovery efforts; (2) develop and apply methods to estimate population size and monitor trends in abundance; (3) determine population discreteness and stock structure; (4) conduct risk analyses; (5) identify, characterize, protect, and monitor habitat essential to sperm whale populations; (6) investigate causes of and reduce the frequency and severity of human-caused injury and mortality; (7) determine and minimize any detrimental effects of anthropogenic noise in the oceans; (8) maximize efforts to acquire scientific information from dead, stranded, and entangled sperm whales; and (9) develop a post-delisting monitoring plan.

Criteria for the reclassification of the sperm whale are included in the final Recovery Plan. In summary, the sperm whale may be reclassified from endangered to threatened when all of the following have been met: (1) Given current and projected threats and environmental conditions, the sperm whale population in each ocean basin in which it occurs (Atlantic Ocean/Mediterranean Sea, Pacific Ocean, and Indian Ocean) satisfies the risk analysis standard for threatened status (has no more than a 1 percent chance of extinction in 100 years) and the global population has at least 1,500 mature, reproductive individuals (consisting of at least 250 mature females and at least 250 mature males in each ocean basin). Mature is defined as the number of individuals known, estimated, or inferred to be capable of reproduction. Any factors or circumstances that are thought to substantially contribute to a real risk of extinction that cannot be incorporated into a Population Viability Analysis will be carefully considered before downlisting takes place; and (2) None of the known threats to sperm whales are known to limit the continued growth of populations. Specifically, the factors in 4(a)(l) of the ESA are being or have been addressed: (A) The present or threatened destruction, modification or curtailment of a species' habitat or range; (B) overutilization for commercial, recreational or educational purposes; (C) disease or predation; (D) the inadequacy of existing regulatory mechanisms; and (E) other natural or manmade factors. The population will be considered for delisting if all of the following can be met: (1) Given current and projected threats and environmental conditions, the total sperm whale population in each ocean basin in which it occurs (Atlantic Ocean/Mediterranean Sea, Pacific Ocean, and Indian Ocean) satisfies the risk analysis standard for unlisted status (has less than a 10 percent probability of becoming endangered (has more than a 1 percent chance of extinction in 100 years) in 20 years). Any factors or circumstances that are thought to substantially contribute to a real risk of extinction that cannot be incorporated into a Population Viability Analysis will be carefully considered before delisting takes place; and (2) None of the known threats to sperm whales are known to limit the continued growth of populations. Specifically, the factors in 4(a)(l) of the ESA are being or have been addressed.

Time and cost for recovery actions are contained in the Recovery Plan. The recovery program for the sperm whale will cost $2.4 million dollars for the first 5 fiscal years and $173.9 million dollars to full recovery, assuming 15 years for recovery starting in 2011 for the Atlantic Ocean/Mediterranean Sea and Pacific Ocean regions and 25 years for the Indian Ocean.

In accordance with the 2003 Peer Review Policy as stated in Appendix R of the Interim Endangered and Threatened Species Recovery Planning Guidance, NMFS solicited independent peer-review on the draft Recovery Plan concurrent with the public comment period. Independent peer-reviews were requested from three scientists and managers with expertise in recovery planning, statistical analyses, fisheries, and marine mammals. Many of the recommendations that were made by the reviewers were addressed and provided in detail in the final Recovery Plan. New information, research results, and references that have become available since the draft Recovery Plan was released were also incorporated into the final Recovery Plan.

Conclusion

NMFS revised the final Recovery Plan for the sperm whale and evaluated all comments received by the public as well as independent peer-reviewers. NMFS concludes that the Recovery Plan meets the requirements of the ESA.

Authority: 16 U.S.C. 1531 et seq.

Dated: December 21, 2010.
Therese Conant,
Acting Chief, Endangered Species Division, Office of Protected Resources, National Marine Fisheries Service.

[FR Doc. 2010-32692 Filed 12-27-10; 8:45 am]

BILLING CODE 3510-22-P